NUCLEAR REGULATORY COMMISSION

[NRC-2010-0383]

Agency Information Collection Activities: Submission for the Office of Management and Budget Review; Comment Request

AGENCY: Nuclear Regulatory Commission.

ACTION: Notice of Office of Management and Budget review of information collection and solicitation of public comment.

SUMMARY: The U.S. Nuclear Regulatory Commission (NRC) has recently submitted to the Office of Management and Budget (OMB) for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on May 16, 2011.

1. Type of submission, new, revision, or extension: Revision.

2. The title of the information collection: Title 10 of the Code of Federal Regulations (10 CFR) Part 73—“Physical Protection of Plants and Materials.”

3. Current OMB approval number: 3150-0002.

4. The form number if applicable: N/A.

5. How often the collection is required: On occasion, with the exception of the initial submittal of revised Cyber Security Plans, Security Plans, Safeguards Contingency Plans, and Security Training and Qualification Plans. Required reports are submitted and evaluated as events occur.

6. Who will be required or asked to report: Nuclear power reactor licensees, licensed under 10 CFR part 50 or 52 who possess, use, import, export, transport, or deliver to a carrier for transport, special nuclear material; Category I fuel facilities; Category II and III facilities; nonpower reactors (research and test reactors); and 262 other nuclear materials licensees.

7. An estimate of the number of annual responses: 151,884 (30,178 reporting responses + 121,127 third party responses + 579 recordkeepers).

8. The estimated number of annual respondents: 579.

9. An estimate of the total number of hours needed annually to complete the requirement or request: 555,346 hours (20,510 hours reporting + 500,524 hours recordkeeping + 34,312 hours third party disclosure).

10. Abstract: The NRC regulations in 10 CFR part 73 prescribe requirements to establish and maintain a physical protection system and security organization with capabilities for protection of (1) Special nuclear material (SNM) at fixed sites, (2) SNM in transit, and (3) plants in which SNM is used. The objective is to ensure that activities involving special nuclear material are consistent with interests of common defense and security and that these activities do not constitute an unreasonable risk to public health and safety. The information in the reports and records submitted by licensees is used by the NRC staff to ensure that the health and safety of the public and the environment are protected, and licensee possession and use of special nuclear material is in compliance with license and regulatory requirements.

The public may examine and have copied, for a fee, publicly available documents, including the final supporting statement, at the NRC's Public Document Room, Room O-1F21, One White Flint North, 11555 Rockville Pike, Rockville, Maryland 20852. The OMB clearance requests are available on the NRC Web site at http://www.nrc.gov/public-involve/doc-comment/omb/index.html. The document will be available on the NRC Web site for 60 days after the signature date of this notice.

Comments and questions should be directed to the OMB reviewer listed below by September 26, 2011. Comments received after this date will be considered if it is practical to do so, but assurance of consideration cannot be given to comments received after this date.

Chad Whiteman, Desk Officer, Office of Information and Regulatory Affairs (3150-0002), NEOB-10202, Office of Management and Budget, Washington, DC 20503.

Comments can also be e-mailed to CWhiteman@omb.eop.gov or submitted by telephone at 202-395-4718.

The NRC Clearance Officer is Tremaine Donnell, telephone: 301-415-6258.

Dated at Rockville, Maryland, this 19th day of August, 2011.
For the Nuclear Regulatory Commission.
Tremaine Donnell,
NRC Clearance Officer, Office of Information Services.

[FR Doc. 2011-21714 Filed 8-24-11; 8:45 am]

BILLING CODE 7590-01-P